ENVIRONMENTAL PROTECTION AGENCY

[EPA-HQ-OPPT-2003-0004; FRL-11007-01-OCSPP]

Access to Confidential Business Information by Agile Decision Sciences, LLC and Subcontractor Abaco-Blackfish JV, LLC

AGENCY: Environmental Protection Agency (EPA).

ACTION: Notice.

SUMMARY: EPA has authorized its contractor Agile Decisions Sciences LLC of Huntsville, AL and subcontractor Abaco-Blackfish JV, LLC of Leesburg, VA to access information which has been submitted to EPA under all Sections of the Toxic Substances Control Act (TSCA). Some of the information may be claimed or determined to be Confidential Business Information (CBI).

DATES: Access to the confidential data will occur no sooner than June 15, 2023.

FOR FURTHER INFORMATION CONTACT:

For technical information contact: Colby Lintner or Adam Schwoerer, Program Management and Operations Division (7407M), Office of Pollution Prevention and Toxics, Environmental Protection Agency, 1200 Pennsylvania Ave. NW, Washington, DC 20460-0001; telephone number and email address: (202) 564-8182; lintner.colby@epa.gov or (202) 564-4767; schwoerer.adam@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. This action may, however, be of interest to all who manufacture, process, or distribute industrial chemicals. Because other entities may also be interested, the Agency has not attempted to describe all the specific entities that may be affected by this action.

B. How can I get copies of this document and other related information?

The docket for this action, identified by docket identification (ID) number EPA-HQ-OPPT-2003-0004, is available at https://www.regulations.gov or at the Office of Pollution Prevention and Toxics Docket (OPPT Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OPPT Docket is (202) 566-0280. For the latest status information on EPA/DC services and docket access, visit https://www.epa.gov/dockets.

II. What action is the Agency taking?

Under contract number 68HERD23D0002 Task Order number 68HERD23F0105, contractor Agile Decision Sciences, LLC located at 350 Voyager Way, Suite 100B, Huntsville, AL 35806-3200 and subcontractor Abaco-Blackfish JV, LLC located at 107 Harrison Street, NE Leesburg, VA 20176-2309 will support the operations of the TSCA Confidential Business Information Center (CBIC), providing records services to EPA personnel and contractors, as well as those companies who submit information in compliance with TSCA. The efficient and ongoing operation of services in the CBIC are vital to Agency personnel to make informed decisions on environmental issues and other information that maybe claimed as TSCA CBI in accordance with the TSCA Security Manual.

In accordance with 40 CFR 2.306(j), EPA has determined that under EPA contract number 68HERD23D0002 Task Order number 68HERD23F0105, Agile Decision Sciences, LLC and Abaco-Blackfish JV, LLC will require access to CBI submitted under all Sections of TSCA to perform successfully the duties specified under the contract. Agile Decision Sciences, LLC and Abaco-Blackfish JV, LLC personnel will be given access to information claimed or determined to be CBI information submitted to EPA under all sections of TSCA.

EPA is issuing this notice to inform all submitters of information under all sections of TSCA that EPA will provide Agile Decision Sciences, LLC and Abaco-Blackfish JV, LLC access to these CBI materials on a need-to-know basis only. All access to TSCA CBI under this contract will take place at EPA Headquarters and in accordance with EPA's TSCA CBI Protection Manual and the Rules of Behavior for Virtual Desktop Access to OPPT Materials, including TSCA CBI.

Access to TSCA data, including CBI, will continue until April 02, 2028. If the contract is extended, this access will also continue for the duration of the extended contract without further notice. Agile Decision Sciences, LLC and Abaco-Blackfish JV, LLC personnel will be required to sign nondisclosure agreements and will be briefed on specific security procedures for TSCA CBI.

Authority: 15 U.S.C. 2601 et seq.

Dated: June 5, 2023.
Pamela Myrick,
Director, Project Management and Operations Division, Office of Pollution Prevention and Toxics.

[FR Doc. 2023-12259 Filed 6-7-23; 8:45 am]

BILLING CODE 6560-50-P